DEPARTMENT OF THE TREASURY

Submission for OMB Review; Comment Request

January 24. 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 2, 2006 to be assured of consideration.

Alcohol and Tobacco Tax and Trade Bureau (TTB)

OMB Number: 1513-0083.

Type of Review: Extension.

Title: Excise Tax Return.

Form: TTB form F 5000.24.

Description: Businesses other than those in Puerto Rico report their Federal excise tax liability on distilled spirits, wine, beer, tobacco products, cigarette papers and tubes on TTB F 5000.24. TTB needs this form to identify the taxpayer and to determine the amount and type of taxes due and paid.

Respondents: Business or other for-profit.

Estimated Total Burden Hours: 22,500 hour.

OMB Number: 1513-0118.

Type of Review: Reinstatement.

Title: Formulas for Fermented Beverage Products.

Description: Formula information is necessary to protect the public and collect revenue. Brewers must submit written notices to obtain formula approval.

Respondents: Business or other for-profit.

Estimated Total Burden Hours: 500 hour.

Clearance Officer: Frank Foote (202) 927-9347, Alcohol and Tobacco Tax and Trade Bureau, Room 200 East, 1310 G Street, NW., Washington, DC 20005.

OMB Reviewer: Alexander T. Hunt (202) 395-7316, Office of Management and Budget, Room 10235, New Executive Office Building, Washington, DC 20503.

Michael A. Robinson,
Treasury PRA Clearance Officer.

[FR Doc. E6-1174 Filed 1-30-06; 8:45 am]

BILLING CODE 4810-31-P